TENNESSEE VALLEY AUTHORITY

Paperwork Reduction Act of 1995, as Amended by Public Law 104-13; Proposed Collection; Comment Request

AGENCY: Tennessee Valley Authority.

ACTION: Proposed collection; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Wilma H. McCauley, Tennessee Valley Authority, 1101 Market Street (EB 5B), Chattanooga, Tennessee 37402-2801; (423) 751-2523.

Comments should be sent to the Agency Clearance Officer no later January 21, 2003.

SUPPLEMENTARY INFORMATION: Type of Request: Regular submission.

Title of Information Collection: TVA Accounts Payable Customer Satisfaction Survey.

Frequency of Use: On occasion.

Small Business or Organizations Affected: Yes.

Estimated Number of Annual Responses: 2,000.

Estimated Total Annual Burden Hours: 333.

Estimated Average Burden Hours Per Response: 10 minutes.

Need For and Use of Information: This information collection will be distributed by email to TVA's suppliers that receive remittance information by email. The information collected will be used to evaluate current performance of the Accounts Payable Department (ADP) which will identify areas for improvement and enable ADP to provide better service to suppliers and facilitate commerce between TVA and its suppliers.

Jacklyn J. Stephenson,
Senior Manager, Enterprise Operations Information Services.

[FR Doc. 02-29413 Filed 11-19-02; 8:45 am]

BILLING CODE 8120-08-P